DEPARTMENT OF HOMELAND SECURITY

U.S. Citizenship and Immigration Services

Agency Information Collection Activities: Comment Request

ACTION: 45-Day Notice of Information Collection under Review: r-account, USCIS Form 3.

The Department of Homeland Security, U.S. Citizenship and Immigration Services (USCIS) has submitted the following information collection request to the Office of Management and Budget (OMB) for review and clearance in accordance with the Paperwork Reduction Act of 1995. The information collection is published to obtain comments from the public and affected agencies. Comments are encouraged and will be accepted for forty-five days until February 13, 2006.

Written comments and/or suggestions regarding the item(s) contained in this notice, especially regarding the estimated public burden and associated response time, should be directed to the Department of Homeland Security (DHS), USCIS, Director, Regulatory Management Division, Clearance Office, 111 Massachusetts Avenue, 3rd floor, Washington, DC 20529. Comments may also be submitted to DHS via facsimile to 202-272-8352 or via e-mail at rfs.regs@dhs.gov. When submitting comments by e-mail please make sure to add USCIS Form 3 in the subject box. Written comments and suggestions from the public and affected agencies concerning the collection of information should address one or more of the following four points:

(1) Evaluate whether the collection of information is necessary for the proper performance of the functions of the agency, including whether the information will have practical utility;

(2) Evaluate the accuracy of the agency's estimate of the burden of the collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Overview of this information collection:

General Information

The U.S. Citizenship and Immigration Services (USCIS) is planning a broad restructuring of its business processes to move from an exclusively transaction based focus to customer accounts. Account management will permit USCIS to streamline benefits processing and eliminate the capture and processing of redundant data.

In some respects the account focus represents more comprehensive information than USCIS has previously collected at one time. However, an account focus eliminates redundancy in that customers will not have to give the same information repeatedly. In addition, in many respects the account represents less total information than is cumulatively collected today as customers file various applications in their lifecycle with USCIS. But the American public expects USCIS to ask what it needs to know and to link that data with biometrics in order to deter and detect fraud, and thereby reduce national security risks. Moreover, the account system allows USCIS to avoid burdening the customer with repeated requests for the same information. It allows for address changes to be made by individuals, employers, and representatives one time in one place for all purposes, solving a huge customer and administrative burden to date. This account system finds the common ground between USCIS objectives and customer service, national security, and administrative efficiency. USCIS will be promulgating a rulemaking in the near future.

(1) Type of Information Collection: New Collection.

(2) Title of the Form/Collection: r-account.

(3) Agency form number, if any, and the applicable component sponsoring the collection: USCIS Form 3. Office of Program and Regulations Development, U.S. Citizenship and Immigration Services.

(4) Affected public who will be asked or required to respond, as well as a brief abstract: Primary: Business or other for-profit entities. Secondary: Non-for-profit institutions. An attorney or accredited representative will use USCIS Form 3 to register with USCIS as a prerequisite to appearing before USCIS on behalf of an individual submitting an application or petition for an immigration benefit.

(5) An estimate of the total number of respondents and the amount of time estimated for an average respondent to respond: 10,000 responses at .33 hours (20 minutes) per response.

(6) An estimate of the total public burden (in hours) associated with the collection: 3,300 annual burden hours. Attorneys and accredited representatives will only be required to file USCIS Form 3 once. Therefore, because most attorneys and accredited representatives handle matters before USCIS for longer than one year, we expect the number of respondents, and the reporting burden and costs derived from that number, to drop after one year.

If you have additional comments, suggestions, or need a copy of the proposed information collection instrument with instructions, or additional information, please visit the USCIS Web site at: http://uscis.gov/graphics/formsfee/forms/pra/index.htm.

If additional information is required contact: USCIS, Regulatory Management Division, 111 Massachusetts Avenue, 3rd Floor, Washington, DC 20529, (202) 272-8377.

Dated: December 23, 2005.
Richard A. Sloan,
Director, Regulatory Management Division, U.S. Citizenship and Immigration Services.

[FR Doc. 05-24636 Filed 12-28-05; 8:45 am]

BILLING CODE 4410-10-P